FEDERAL COMMUNICATIONS COMMISSION

47 CFR Part 64

[WC Docket No. 16-106; Report No. 3067]

Petitions for Reconsideration of Action in Rulemaking Proceeding; Correction

AGENCY: Federal Communications Commission.

ACTION: Petition for reconsideration; correction.

SUMMARY: This document corrects the date for filing of Replies to an opposition published in the Federal Register of February 17, 2017, (82 FR 10999) regarding Petitions for Reconsideration of Action. This document corrects the Replies to an opposition deadline to March 16, 2017.

DATES: Oppositions to the Petitions must be filed on or before March 6, 2017. Replies to an opposition must be filed on or before March 16, 2017.

ADDRESSES: Federal Communications Commission, 445 12th Street SW., Washington, DC 20554.

FOR FURTHER INFORMATION CONTACT: Sherwin Siy, Competition Policy Division, Wireline Competition Bureau, at (202) 418-2783 or email: Sherwin.Siy@fcc.gov.

Federal Communications Commission.
Marlene H. Dortch,
Secretary.

[FR Doc. 2017-04471 Filed 3-7-17; 8:45 am]

BILLING CODE 6712-01-P